DEPARTMENT OF ENERGY

International Energy Agency Meetings

AGENCY: Department of Energy.

ACTION: Notice of meetings.

SUMMARY: The Industry Advisory Board (IAB) to the International Energy Agency (IEA) will meet on June 26-27, 2019, at the French Ministry of Foreign Affairs, 27 rue de la Convention, 75015 Paris, France, in connection with a joint meeting of the IEA's Standing Group on Emergency Questions (SEQ) and the IEA's Standing Group on the Oil Market (SOM) which is scheduled at the same time.

DATES: June 26-27, 2019.

ADDRESSES: French Ministry of Foreign Affairs Building (Centre de Conférence Ministériel), 27 rue de la Convention, 75015 Paris, France.

FOR FURTHER INFORMATION CONTACT: Thomas Reilly, Assistant General Counsel for International and National Security Programs, Department of Energy, 1000 Independence Avenue SW, Washington, DC 20585, 202-586-5000.

SUPPLEMENTARY INFORMATION: In accordance with section 252(c)(1)(A)(i) of the Energy Policy and Conservation Act (42 U.S.C. 6272(c)(1)(A)(i)) (EPCA), the following notice of meetings is provided:

A meeting of the Industry Advisory Board (IAB) to the International Energy Agency (IEA) will be held at the French Ministry of Foreign Affairs Building (Centre de Conférence Ministériel), 27 rue de la Convention, 75015 Paris, France, commencing at 9:15 a.m. on June 27, 2019. The purpose of this notice is to permit attendance by representatives of U.S. company members of the IAB at a meeting of the IEA's Standing Group on Emergency Questions (SEQ), which is scheduled to be held at the same location and time. The IAB will also hold a preparatory meeting among company representatives at the same location at 9:30 a.m. on June 27. The agenda for this preparatory meeting is to review the agenda for the SEQ meeting.

The agenda of the meeting is under the control of the SEQ and the SOM. It is expected that the SEQ and the SOM will adopt the following agenda:

Closed SEQ Session—IEA Member Countries Only

1. Adoption of the Agenda

2. Approval of the Summary Record of the 157th Meeting

3. Status of Compliance with IEP Agreement Stockholding Obligations

4. Update on the Ministerial Mandate

Open SEQ Session—open to Association Countries

5. Update on Contaminated Russian oil—Druzhba incident

6. Mid-term Review of the Netherlands

7. EU—Cybersecurity

8. Industry Advisory Board Update

9. Emergency Response Review—Estonia

10. Mid-term Review of France

11. Outreach

12. Oral Reports by Administrations

13. Any Other Business

Schedule of SEQ & SOM Meetings 2019 & 2020

—22-24 October 2019

—24-26 March 2020

—23-25 June 2020

—17-19 November 20120

A meeting of the Industry Advisory Board (IAB) to the International Energy Agency (IEA) will be held at the French Ministry of Foreign Affairs, 27 rue de la Convention, 75015 Paris, France, on June 26, 2019, commencing at 09:15 a.m. The purpose of this notice is to permit attendance by representatives of U.S. company members of the IAB at a joint meeting of the IEA's Standing Group on Emergency Questions (SEQ) and the IEA's Standing Group on the Oil Market (SOM), which is scheduled to be held at the same location and time. The agenda of the SEQ meeting is under the control of the SEQ. It is expected that the SEQ will adopt the following agenda:

Start meeting/Introduction

1. Adoption of the Agenda

2. Approval of Summary Record of 21 March 2019

3. Reports on Recent Oil Market and Policy Developments in IEA Countries

4. Update on the Current Oil Market Situation: followed by Q&A

5. Special session: “Focus on China”

—Secretariat presentation: “Economic, technology and political perspectives on Chinese oil demand”

— Sinopec presentation: “Medium-Term Outlook for Chinese demand”

6. Special session: “Future of oil demand”

—Secretariat presentation on Global Electric Vehicle Outlook 2019

—Secretariat presentation on vehicle efficiency improvements

—Member countries/IAB contributions: (TBC)

7. Presentation: “World Energy Investment 2019” followed by Q&A

8. Presentation: “Gas 2019” followed by Q&A

9. Other Business

—Tentative schedule of the next SOM meeting: 22-24 October 2019, Location TBC

Concluding Remarks

As provided in section 252(c)(1)(A)(ii) of the Energy Policy and Conservation Act (42 U.S.C. 6272(c)(1)(A)(ii)), the meetings of the IAB are open to representatives of members of the IAB and their counsel; representatives of members of the IEA's Standing Group on Emergency Questions and the IEA's Standing Group on the Oil Markets; representatives of the Departments of Energy, Justice, and State, the Federal Trade Commission, the General Accounting Office, Committees of Congress, the IEA, and the European Commission; and invitees of the IAB, the SEQ, the SOM, or the IEA.

Issued in Washington, DC, June 12, 2019.
Thomas Reilly,
Assistant General Counsel for International and National Security Programs.

[FR Doc. 2019-12870 Filed 6-17-19; 8:45 am]

BILLING CODE 6450-01-P